DEPARTMENT OF ENERGY

Federal Energy Regulatory Commission

[Docket Nos. RP04-251-000; RP04-248-000]

El Paso Natural Gas Company; Notice Shortening Answer Period

September 14, 2004.

On September 13, 2004, El Paso Natural Gas Company and the Settling Parties in the above-captioned proceedings, filed an Offer of Settlement comprised of an Explanatory Statement and Stipulation and Agreement in these proceedings. By this notice, the period for filing initial comments on the Offer of Settlement is hereby shortened to and including September 24, 2004. Reply shall be filed on or before October 6, 2004.

Magalie R. Salas,
Secretary.

[FR Doc. E4-2274 Filed 9-20-04; 8:45 am]

BILLING CODE 6717-01-P